Proclamation 8966 of April 30, 2013

Jewish American Heritage Month, 2013

By the President of the United States of America

A Proclamation

In his second year in office, President George Washington wrote a letter to the Touro Synagogue in Newport, Rhode Island—one of our Nation's first Jewish houses of worship—and reaffirmed our country's commitment to religious freedom. He noted that the Government of the United States would give “to bigotry no sanction [and] to persecution no assistance,” and that all Americans are entitled to “liberty of conscience and immunities of citizenship.” Those words ring as true today as they did then, and they speak to a principle as old as America itself: that no matter who you are, where you come from, or what faith you practice, all of us have an equal share in America's promise.

It was such a belief that drew generations of Jewish immigrants to our shores. It is what brought Jewish families westward when pogroms and persecution cast a shadow over Europe in the last century. It is what led Holocaust survivors and Jews trapped behind the Iron Curtain to rebuild their lives across the Atlantic. And with every group that arrived here, the Jewish American community grew stronger. Our Nation grew stronger. Jewish immigrants from all over the world wove new threads into our cultural fabric with rich traditions and indomitable faith, and their descendants pioneered incredible advances in science and the arts. Teachings from the Torah lit the way toward a more perfect Union, from women's rights to workers' rights to the end of segregation.

That story is still unfolding today. Jewish Americans continue to guide our country's progress as scientists and teachers, public servants and private citizens, wise leaders and loving parents. We see their accomplishments in every neighborhood, and we see them abroad in our unbreakable bond with Israel that Jewish Americans helped forge. More than 350 years have passed since Jewish refugees first made landfall on American shores. We take this month to celebrate the progress that followed, and the bright future that lies ahead.

NOW, THEREFORE, I, BARACK OBAMA, President of the United States of America, by virtue of the authority vested in me by the Constitution and the laws of the United States, do hereby proclaim May 2013 as Jewish American Heritage Month. I call upon all Americans to visit www.JewishHeritageMonth.gov to learn more about the heritage and contributions of Jewish Americans and to observe this month with appropriate programs, activities, and ceremonies.

IN WITNESS WHEREOF, I have hereunto set my hand this thirtieth day of April, in the year two thousand thirteen, and of the Independence of the United States of America the two hundred and thirty-seventh.

[FR Doc. 2013-10745

Filed 5-2-13; 11:15 am]

Billing code 3295-F3